DEPARTMENT OF HOUSING AND URBAN DEVELOPMENT

[Docket No. FR-6222-N-01]

Appointments to the Housing Counseling Federal Advisory Committee

AGENCY: Office of the Assistant Secretary for Housing- Federal Housing Commissioner, Department of Housing and Urban Development (HUD).

ACTION: Notice of the Solicitation of Nominations for Appointment to the Housing Counseling Federal Advisory Committee (HCFAC) to fill vacancies on the HCFAC.

SUMMARY: The Department of Housing and Urban Development (HUD) established the HCFAC on April 14, 2015. This notice invites nominations for appointments to fill vacancies on the HCFAC.

DATES: All Nominations must be received no later than July 29, 2020.

ADDRESSES: Nominations must be in writing and submitted via email to HCFAC.application@hud.gov. Individuals who do not have internet access may submit nominations to the Office of the Deputy Assistant Secretary for Housing Counseling, Department of Housing and Urban Development, 451 Seventh Street SW, Room 9224, Washington DC 20410.

FOR FURTHER INFORMATION CONTACT: Virginia F. Holman, Housing Program Specialist, U.S. Department of Housing and Urban Development, Office of Housing Counseling, Office of Outreach and Capacity Building, Virginia.F.Holman@hud.gov, telephone number 540-894-7790. (this is not a toll-free number). Persons who have difficulty hearing or speaking may access this number via TTY by calling the toll-free Federal Relay Service at (800) 877-8339 (toll-free number). Individuals with questions may also email HCFAC.application@hud.gov and in the subject line write “HCFAC application question.”

SUPPLEMENTARY INFORMATION:

I. Background and Authority

The HCFAC is statutorily mandated to provide advice to the Office of Housing Counseling (OHC) (42 U.S.C. 3533(g)(4)). The HCFAC provides the OHC valuable advice regarding its mission to provide individuals and families with knowledge to obtain, sustain, and improve their housing through a strong national network of HUD-approved housing counseling agencies and HUD-certified counselors. The HCFAC, however, does not have any role in reviewing or awarding of OHC housing counseling grants and procurements. The HCFAC is subject to the requirements of the Federal Advisory Committee Act (5 U.S.C. Appendix) (FACA), FACA regulations, and Presidential Memorandum “Final Guidance on Appointments of Lobbyists to Federal Boards and Commissions,” dated June 18, 2010, along with any relevant guidance published in the Federal Register or otherwise issued by the Office of Management and Budget (OMB).¹

¹ See, https://www.whitehouse.gov/the:press-office/presidential-memorandum-lobbyists-agency-boards-and-Commissions (“Lobbyist on Agency Boards and Commissions”); see also 76 FR 61756 (“Final Guidance on Appointments of Lobbyists to Federal Boards and Commissions”); and 79 FR 47482 (“Revised Guidance on Appointment of Lobbyists to Federal Advisory Committees, Boards, and Commissions”).

The HCFAC shall consist of not more than 8 individuals appointed by the Secretary. The membership will equally represent the mortgage industry, real estate industry, consumers, and HUD-approved housing counseling agencies. Each member shall be appointed in his or her individual capacity for a term of 3 years.

Appointees whose terms have expired are eligible to apply to be nominated for the positions announced herein.

II. Nominations for the Housing Counseling Federal Advisory Committee

HUD is seeking nominations for membership on the HCFAC. Nominees shall have experience representative of at least one of the 4 categories—the mortgage industry, real estate industry, consumers, and HUD-approved housing counseling agencies. Nominations may be made by agency officials, members of Congress, the general public, professional organizations, and self-nominations. Nominees must be U.S. citizens and cannot be U.S. Government employees.

All appointed nominees will be serving on the HCFAC in their individual capacity and not in a representative capacity, therefore, no Federally-registered lobbyists may serve on the HCFAC.² Individual capacity, as clarified by OMB, refers to individuals who are appointed to committees to exercise their own individual best judgment on behalf of the government, such as when they are designated as Special Government Employees as defined in 18 U.S.C. 202. Nominations to the HCFAC must be submitted using Form HUD-90005 (“Application for Membership Housing Counseling Federal Advisory Committee”) which is available on the Office of Housing Counseling's Federal Advisory Committee web page at: https://www.hudexchange.info/programs/housing-counseling/federal-advisory-committee/. Each nominee will be required to provide all the information requested on HUD-90005. Nominations submitted under this Federal Register Notice shall remain valid for two (2) years after the close of the deadline for applications. HUD reserves the right to solicit new nominations, at any time, to fill HCFAC vacancies.

² See 79 FR 4782 (“Revised Guidance on Appointment of Lobbyists to Federal Advisory Committees, Boards, andCommissions”) (clarifying that federally registered lobbyists may not serve on advisory committee, board, or Commission in an “individual capacity.”)

Nominations should be submitted via email to HCFAC.application@hud.gov. Individuals who do not have internet access may submit nominations to the Office of the Deputy Assistant Secretary for Housing Counseling, HUD, 451 7th Street SW, Washington DC 20410.

Those who submitted applications previously, and those who have been appointed previously, must reapply if they wish to be considered for an appointment.

All Nominations must be received no later than July 29, 2020.

HCFAC members will be required to adhere to the conflict of interest rules applicable to Special Government Employees as defined in 18 U.S.C. Section 202(a). The rules include relevant provisions in Title 18 related to criminal activity, Standards of Ethical Conduct for Employees of the Executive Branch (5 CFR part 2635) and Executive Order 12674 (as modified by Executive Order 12731). Therefore, applicants will be required to submit to pre-appointment screenings relating to conflict of interest and financial interests that HUD might require. If selected, HCFAC members will also be asked to complete OGE Form 450 (Confidential Financial Disclosure Report).

Members of the HCFAC shall serve without pay but shall receive travel expenses including per diem in lieu of subsistence as authorized by 5 U.S.C. 5703. Regular attendance is essential to the effective operation of the HCFAC.

This Notice is not intended to be the exclusive method by which HUD will solicit nominations and expressions of interest to identify qualified candidates. However, all nominees for membership on the HCFAC will be subject to the same application process and evaluation criteria.

IV. Selection and Meetings.

Member selections and appointments will be made by the Secretary and will be based on the Nominee's qualifications to contribute to the accomplishment of the HCFAC's objectives. Membership on the Committee is personal to the appointee and committee members serve at the discretion of the Secretary.

The estimated number of in-person meetings anticipated within a fiscal year is two (2) in Washington DC or elsewhere in the United States. Additional meetings may be held as needed to render advice to the Deputy Assistant Secretary for OHC. The meetings may use electronic communication technologies for attendance.

All meetings will be announced by notice in the Federal Register. Announcements of the meetings may be made using other methods as well.

Dated: June 22, 2020.
Len Wolfson,
Acting Assistant Secretary for Housing-Federal Housing Commissioner.

[FR Doc. 2020-13952 Filed 6-26-20; 8:45 am]

BILLING CODE 4210-67-P